DEPARTMENT OF LABOR

Employment and Training Administration

Notice of Availability of Funds and Funding Opportunity Announcement for YouthBuild Grants

AGENCY: Employment and Training Administration, Labor.

ACTION: Notice of funding opportunity announcement.

Funding Opportunity Number: FOA-ETA-16-10.

SUMMARY: The Employment and Training Administration (ETA), U.S. Department of Labor (DOL), announces the availability of approximately $80 million in grant funds authorized by the Workforce Innovation and Opportunity Act (WIOA) (Pub. L.113-128) for YouthBuild.

Under this Funding Opportunity Announcement (FOA), DOL will award grants through a competitive process to organizations to oversee the provision of education, occupational skills training, and employment services to disadvantaged youth while performing meaningful work and service to their communities. DOL hopes to serve approximately 5,250 participants during the grant period of performance, with approximately 80 projects awarded across the country. Individual grants will range from $700,000 to $1.1 million and require an exact 25 percent match from applicants, using sources other than federal funding. The grant period of performance for this FOA is 40 months, including a four-month planning period.

The complete FOA and any subsequent FOA amendments in connection with this funding opportunity are described in further detail on ETA's Web site at https://www.doleta.gov/grants/find_grants.cfm or on http://www.grants.gov. The Web sites provide application information, eligibility requirements, review and selection procedures, and other program requirements governing this funding opportunity.

DATES: The closing date for receipt of applications under this announcement is July 6, 2016. Applications must be received no later than 4:00:00 p.m. Eastern Time.

FOR FURTHER INFORMATION CONTACT: Kia Mason, 200 Constitution Avenue NW., Room N-4716, Washington, DC 20210; Telephone: 202-693-2606.

Signed May 17, 2016, in Washington, DC.
Eric D. Luetkenhaus,
Grant Officer, Employment and Training Administration.

[FR Doc. 2016-12084 Filed 5-23-16; 8:45 am]

BILLING CODE 4510-FT-P